UTAH RECLAMATION MITIGATION AND CONSERVATION COMMISSION

Notice of Availability of the Decision Notice and Finding of No Significant Impact for Reconstruction of the Whiterocks State Fish Hatchery in Utah

AGENCY: Utah Reclamation Mitigation and Conservation Commission.

ACTION: Notice of availability.

SUMMARY: The Utah Reclamation Mitigation and Conservation Commission (Mitigation Commission) and the Utah Division of Wildlife Resources (Division) have jointly prepared an Environmental Assessment (EA) to determine the effects of a partial reconstruction of the existing Whiterocks State Fish Hatchery located near Whiterocks, Uinta County, Utah. After considering public comments and analyzing environmental effects, the proposed action was selected, which provides for partial reconstruction, operation and maintenance of the Whiterocks Hatchery.

The Proposed Action consists of: rehabilitating existing water supply and internal water delivery systems, installing an oxygen injection system, constructing a new hatchery/lab/office building, constructing a truck disinfection station and associated site paving. The facility is located on approximately 14 acres of State-owned lands. Partial reconstruction of the Whiterocks State Fish Hatchery helps meet the State of Utah's fishery long-term stocking needs and management objectives for providing cold-water sport fishing opportunities. Under the Proposed Action, annual production of the facility would increase by approximately 147%, from 35,500 to 87,700 pounds, at a total estimated cost of $2.43 million.

Based on information contained in the EA and supporting documentation, a Finding of No Significant Impact was made on the Proposed Action, as it would not significantly affect the quality of human environment, within the meaning of the National Environment Policy Act. In addition, specific issues would be addressed as follows: water quality issues will be addressed through compliance with the existing pertinent discharge permit; a wetland mitigation plan, coordinated with the U.S. Army Corps of Engineers, has been initiated for estimated wetland impacts; appropriate measures designed to avoid adverse impacts to raptors will be implemented; and, commonly accepted mitigative practices to control noxious weeds will be implemented.

ADDRESSES: Copies of the FONSI can be obtained at the Utah Reclamation Mitigation and Conservation Commission, 102 W 500 S, Suite 315, Salt Lake City, Utah, 84101. It may also be viewed on the internet at: http://www.mitigationcommission.gov/news.html.

FOR FURTHER INFORMATION CONTACT: Maureen Wilson, 801-524-3146.

Dated: May 4, 2004.
Michael C. Weland,
Executive Director, Utah Reclamation Mitigation and Conservation Commission.

[FR Doc. 04-10994 Filed 5-13-04; 8:45 am]

BILLING CODE 4310-05-P